FEDERAL COMMUNICATIONS COMMISSION

[DA 12-770]

Consumer Advisory Committee

AGENCY: Federal Communications Commission.

ACTION: Notice.

SUMMARY: The Commission announces the next meeting date, time, and agenda of its Consumer Advisory Committee (Committee). The purpose of the Committee is to make recommendations to the Commission regarding matters within the jurisdiction of the Commission and to facilitate the participation of all consumers in proceedings before the Commission.

DATES: The next meeting of the Committee will take place on Friday, June 15, 2012, 8:30 a.m. to 4:00 p.m., at the Commission's Headquarters Building, Room TW-C305.

ADDRESSES: Federal Communications Commission, 445 12th Street SW., Washington, DC 20554.

FOR FURTHER INFORMATION CONTACT: Scott Marshall, Consumer and Governmental Affairs Bureau, (202) 418-2809 (voice or TTY), or email Scott.Marshall@fcc.gov.

SUPPLEMENTARY INFORMATION: This is a summary of the Commission's document DA 12-770 released May 17, 2012, announcing the agenda, date and time of the Committee's next meeting.

Meeting Agenda

At its June 15, 2012 meeting, it is expected that the Committee will consider a recommendation from its Broadband Working group regarding the Global Public Inclusive Infrastructure Initiative. The Committee will also consider two recommendations from the Committee's Consumer Empowerment Group regarding text spamming and third party wireless shutdowns. In addition four recommendations from the Media Working Group regarding political advertising, spectrum, the Emergency Alert System, and privacy will also be considered. The Committee may also consider other recommendations from its working groups, and may also receive briefings from FCC staff and outside speakers on matters of interest to the Committee. A limited amount of time will be available on the agenda for questions and comments from the public.

Meetings of the Committee are also broadcast live with open captioning over the Internet from the FCC Live Web page at www.fcc.gov/live/.

Simultaneous with the webcast, the meeting will be available through Accessible Event, a service that works with a web browser to make presentations accessible to people with disabilities. Persons wishing to attend through Accessible Event can listen to the audio and use a screen reader to read displayed documents, and can watch the video with open captioning. The Web site to access Accessible Event is http://accessibleevent.com. The Web page prompts for an Event Code which is: 005202376. To learn about the features of Accessible Event, consult its User's Guide at: http://accessibleevent.com/doc/user_guide/.

The public may ask questions of presenters via email livequestions@fcc.gov or via Twitter using the hashtab #fcclive. In addition, the public may also follow the meeting on Twitter @fcc or via the Commission's Facebook page at www.facebook.com/fcc.

Alternatively, written comments to the Committee may be sent to: Scott Marshall, Designated Federal Officer of the Committee at the address provided above.

The meeting is open to the public and the site is fully accessible to people using wheelchairs or other mobility aids. Sign language interpreters, open captioning, assistive listening devices, and Braille copies of the agenda and handouts will be provided on site.

Other reasonable accommodations for people with disabilities are available upon request. The request should include a detailed description of the accommodation needed and contact information. Please provide as much advance notice as possible; last minute requests will be accepted, but may be impossible to fill. Send an email to fcc504@fcc.gov or call the Consumer and Governmental Affairs Bureau at 202-418-0530 (voice), 202-418-0432 (TTY).

Federal Communications Commission.
Kris Anne Monteith,
Acting Chief, Consumer and Governmental Affairs Bureau.

[FR Doc. 2012-12956 Filed 5-25-12; 8:45 am]

BILLING CODE 6712-01-P